DEPARTMENT OF COMMERCE

Foreign-Trade Zones Board

[S-148-2025]

Foreign-Trade Zone 196; Application for Subzone; Radix Group Int'l dba DHL Global Forwarding; Fort Worth, Texas

An application has been submitted to the Foreign-Trade Zones (FTZ) Board by the Alliance Corridor, Inc., grantee of FTZ 196, requesting subzone status for the facilities of Radix Group Int'l dba DHL Global Forwarding, located in Fort Worth, Texas. The application was submitted pursuant to the provisions of the Foreign-Trade Zones Act, as amended (19 U.S.C. 81a-81u), and the regulations of the FTZ Board (15 CFR part 400). It was formally docketed on June 3, 2025.

The proposed subzone would consist of the following sites: Site 1 (73.42 acres) 5600 Mark IV Parkway, Fort Worth; and Site 2 (33.93 acres) 2340 Providence Drive, Fort Worth. No authorization for production activity has been requested at this time. The proposed subzone would be subject to the existing activation limit of FTZ 196.

In accordance with the FTZ Board's regulations, Camille Evans of the FTZ Staff is designated examiner to review the application and make recommendations to the Executive Secretary.

Public comment is invited from interested parties. Submissions shall be addressed to the FTZ Board's Executive Secretary and sent to: ftz@trade.gov. The closing period for their receipt is July 16, 2025. Rebuttal comments in response to material submitted during the foregoing period may be submitted through July 31, 2025.

A copy of the application will be available for public inspection in the “Online FTZ Information Section” section of the FTZ Board's website, which is accessible via www.trade.gov/ftz.

For further information, contact Camille Evans at Camille.Evans@trade.gov.

Dated: June 3, 2025.
Elizabeth Whiteman,
Executive Secretary.

[FR Doc. 2025-10344 Filed 6-5-25; 8:45 am]

BILLING CODE 3510-DS-P